DEPARTMENT OF HEALTH AND HUMAN SERVICES

National Institutes of Health

Amended Notice of Meeting

Notice is hereby given of a change in the meeting of the Special Emphasis Panel Scholarly Works (G13), June 4, 2020, 10:00 a.m. to 3:00 p.m. This notice was published in the Federal Register on February 4, 2020, 85 FR 23, Page 6208.

This notice is being amended to change the time to 10:00 a.m. to 4:30 p.m. The meeting is closed to the public.

Dated: March 31, 2020.
Ronald J. Livingston, Jr.,
Program Analyst, Office of Federal Advisory Committee Policy.

[FR Doc. 2020-07069 Filed 4-3-20; 8:45 am]

BILLING CODE 4140-01-P